DEPARTMENT OF ENERGY

Federal Energy Regulatory Commission

Combined Notice of Filings #1

April 13, 2006.

Take notice that the Commission received the following electric rate filings:

Docket Numbers: ER06-18-002.

Applicants: Midwest Independent Transmission System.

Description: Midwest Independent Transmission System Operator, Inc submits its proposed revisions to its Open Access Transmission and Energy Markets Tariff, FERC Electric Tariff, Third Revised Volume 1.

Filed Date: April 4, 2006.

Accession Number: 20060412-0474.

Comment Date: 5 p.m. Eastern Time on Tuesday, April 25, 2006.

Docket Numbers: ER06-740-001.

Applicants: Indeck Energy Services of Silver Springs.

Description: Indeck-Energy Services of Silver Springs, Inc submits its amended market based rate schedule.

Filed Date: April 3, 2006.

Accession Number: 20060412-0110.

Comment Date: 5 p.m. Eastern Time on Monday, April 24, 2006.

Docket Numbers: ER06-830-000.

Applicants: Public Service Electric and Gas Company.

Description: Public Service Electric & Gas Co et al submit a request for waivers of affiliate standards and authorization for sales.

Filed Date: April 3, 2006.

Accession Number: 20060412-0074.

Comment Date: 5 p.m. Eastern Time on Monday, April 24, 2006.

Docket Numbers: ER06-832-000.

Applicants: MidAmerican Energy Company.

Description: MidAmerican Energy Co submits proposed changes to its FERC Electric Tariff, Original Volume 11 for sales of capacity and energy within the MidAmerican Control Area.

Filed Date: April 3, 2006.

Accession Number: 20060412-0069.

Comment Date: 5 p.m. Eastern Time on Monday, April 24, 2006.

Docket Numbers: ER06-833-000.

Applicants: PJM Interconnection, LLC.

Description: PJM Interconnection, LLC submits revisions to Schedule 2 of its OATT to reflect the allocation of the reactive power revenue requirements of Jersey Central Power & Light Co.

Filed Date: April 3, 2006.

Accession Number: 20060412-0066.

Comment Date: 5 p.m. Eastern Time on Monday, April 24, 2006.

Docket Numbers: ER06-835-000.

Applicants: Sierra Pacific Resources Operating Co.

Description: Nevada Power Co et al submits its Fourth Revised Sheet 10A et al to FERC Electric Tariff, Third Revised Volume 1 pursuant to Section 205 of the Federal Power Act and Part 35 of FERC's Regulations.

Filed Date: April 4, 2006.

Accession Number: 20060412-0068.

Comment Date: 5 p.m. Eastern Time on Tuesday, April 25, 2006.

Docket Numbers: ER06-836-000.

Applicants: Pacific Gas & Electric Company.

Description: Pacific Gas and Electric Co submits its Transmission Revenue Balancing Account Adjustment Filing.

Filed Date: April 4, 2006.

Accession Number: 20060413-0044.

Comment Date: 5 p.m. Eastern Time on Tuesday, April 25, 2006.

Docket Numbers: ER06-837-000.

Applicants: Arizona Public Service Company.

Description: Arizona Public Service Co's Notice of Cancellation of its FERC Electric Rate Schedule 219.

Filed Date: April 4, 2006.

Accession Number: 20060412-0482.

Comment Date: 5 p.m. Eastern Time on Tuesday, April 25, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-6158 Filed 4-24-06; 8:45 am]

BILLING CODE 6717-01-P